DEPARTMENT OF INTERIOR

Fish and Wildlife Service

Notice of Availability of an Environmental Assessment/Habitat Conservation Plan and Receipt of Application for an Incidental Take Permit for the Construction and Operation of a Mixed-Use Development on a Portion of the 201.7-Acre Crossings Property, Travis County, Texas

SUMMARY: Kenneth Beck (Applicant) has applied to the U.S. Fish and Wildlife Service (Service) for an incidental take permit pursuant to Section 10(a) of the Endangered Species Act (Act). The Applicant has been assigned permit number TE-024619-0. The requested permit, which is for a period of 30 years, would authorize the incidental take of the endangered golden-cheeked warbler (Dendroica chrysoparia). The proposed take would occur as a result of the construction and operation of a conference and retreat complex on a portion of the 201.7-acre Crossings property, Travis County, Texas.

The Service has prepared the Environmental Assessment/Habitat Conservation Plan (EA/HCP) for the incidental take application. A determination of jeopardy to the species or a Finding of No Significant Impact (FONSI) will not be made until at least 30 days from the date of publication of this notice. This notice is provided pursuant to Section 10(c) of the Act and National Environment Policy Act regulations (40 CFR 1506.6).

DATES: Written comments on the application and the EA/HCP should be received on or before June 15, 2000.

ADDRESSES: Persons wishing to review the application may obtain a copy by writing to the Regional Director, U.S. Fish and Wildlife Service, P.O. Box 1306, Albuquerque, New Mexico 87103. Persons wishing to review the EA/HCP may obtain a copy by written or telephone request to Scott Rowin, U.S. Fish and Wildlife Service, Ecological Services Office, 10711 Burnet Road, Suite 200, Austin, Texas 78758 (512/490-0063). Documents will be available for public inspection by written request or by appointment only during normal business hours (8:00 to 4:30) at the U.S. Fish and Wildlife Service Office, Austin, Texas. Data or comments concerning the application and EA/HCP should be submitted in writing to the Field Supervisor, U.S. Fish and Wildlife Service Office, Austin, Texas at the above address. Please refer to permit number TE-024619-0 when submitting comments.

FOR FURTHER INFORMATION CONTACT: Scott Rowin, at the above U.S. Fish and Wildlife Service Office, Austin, TX.

SUPPLEMENTARY INFORMATION: Section 9 of the Act prohibits the “taking” of endangered species such as the golden-cheeked warbler. However, the Service, under limited circumstances, may issue permits to take endangered wildlife species incidental to, and not the purpose of, otherwise lawful activities. Regulations governing permits for endangered species are at 50 CFR 17.22.

Applicant

Kenneth Beck plans to construct and operate a private conference and retreat complex on 26.05 acres of the 201.7-acre Crossings property, Travis County, Texas. This action will eliminate approximately 26.05 acres of habitat and indirectly impact 36.65 additional acres of golden-cheeked warbler habitat. The Applicant proposes to compensate for this incidental take of golden-cheeked warbler habitat by donating through fee simple or conservation easement to Travis County the remaining 175.7 acres of the Crossings property, which includes approximately 128 acres of golden-cheeked warbler habitat. This land is adjacent to existing Balconies Canyonlands Preserve land and will be managed by Travis County as such.

Alternatives to this action were rejected because not developing the subject property with federally listed species present was not economically feasible, no mitigation or preservation of habitat in perpetuity would take place, and alteration of the project design would increase the level of impacts to the warbler.

Frank S. Shoemaker, Jr.,
Acting Regional Director, Region 2, Albuquerque, New Mexico.

[FR Doc. 00-12245 Filed 5-15-00; 8:45 am]

BILLING CODE 4510-55-M